FEDERAL COMMUNICATIONS COMMISSION

47 CFR Part 73

[MB Docket No. 22-39; RM-11917; DA 22-87; FR ID 71247]

Television Broadcasting Services; Billings, Montana; Correction

AGENCY: Federal Communications Commission.

ACTION: Proposed rule; correction.

SUMMARY: The Federal Communications Commission published a document in the Federal Register of February 4, 2022, concerning a petition for rulemaking filed by Scripps Broadcasting Holdings LLC, licensee of KTVQ(TV), channel 10, Billings, Montana, requesting the substitution of channel 20 for channel 10 in the Table of Allotments. The document contained the incorrect call sign of the licensee. The document also contained an incorrect licensee name.

DATES: February 15, 2022.

FOR FURTHER INFORMATION CONTACT: Joyce Bernstein, Media Bureau, at (202) 418-1647 or Joyce.Bernstein@fcc.gov.

SUPPLEMENTARY INFORMATION:

Correction

In FR Doc. 2022-02337, in the Federal Register of February 4, 2022, appearing on page 6473, in the third column, correct the first sentence in the Summary caption to read:

SUMMARY: The Federal Communications Commission (Commission) has before it a petition for rulemaking filed by Scripps Broadcasting Holdings LLC (Petitioner), the licensee of KTVQ(TV), channel 10, Billings, Montana.

Dated: February 7, 2022.
Thomas Horan,
Chief of Staff, Media Bureau.

[FR Doc. 2022-03069 Filed 2-14-22; 8:45 am]

BILLING CODE 6712-01-P